DEPARTMENT OF ENERGY

Federal Energy Regulatory Commission

Combined Notice of Filings #1

June 21, 2007.

Take notice that the Commission received the following electric rate filings:

Docket Numbers: ER01-1305-014.

Applicants: Westar Generating, Inc.

Description: Westar Generating, Inc submits its compliance filing in accordance with Article IV, Informational Filing of the Settlement Agreement.

Filed Date: 06/18/2007.

Accession Number: 20070619-0139.

Comment Date: 5 p.m. Eastern Time on Monday, July 9, 2007.

Docket Numbers: ER05-231-006.

Applicants: PSEG Power Connecticut, LLC.

Description: Compliance filing of the Settling Parties and Alternative Request for Rehearing of FERC's 5/18/07 Order re PSEG Power Connecticut LLC.

Filed Date: 06/18/2007.

Accession Number: 20070620-0129.

Comment Date: 5 p.m. Eastern Time on Monday, July 9, 2007.

Docket Numbers: ER07-478-001.

Applicants: Midwest Independent Transmission System Operator, Inc.

Description: Midwest Independent Transmission System Operator Inc submits proposed revisions to its Open Access Transmission and Energy Markets Tariff to comply with specific directives set forth in FERC's 5/17/07 Order.

Filed Date: 06/18/2007.

Accession Number: 20070620-0128.

Comment Date: 5 p.m. Eastern Time on Monday, July 9, 2007.

Docket Numbers: ER07-648-001.

Applicants: California Independent System Operator Corporation.

Description: California Independent System Operator Corp submits its filing in compliance with FERC's 5/18/07 Order conditionally accepting tariff amendments etc.

Filed Date: 06/18/2007.

Accession Number: 20070620-0119.

Comment Date: 5 p.m. Eastern Time on Monday, July 9, 2007.

Docket Numbers: ER07-777-001.

Applicants: American Electric Power Service Corporation.

Description: The American Electric Power Service Corp as designated agent for AEP Operating Companies submits an Amendment to the Interconnection & Local Delivery Service Agreement 1422 with the Village of Deshler.

Filed Date: 06/18/2007.

Accession Number: 20070620-0107.

Comment Date: 5 p.m. Eastern Time on Monday, July 9, 2007.

Docket Numbers: ER07-778-001.

Applicants: American Electric Power Service Corporation.

Description: The American Electric Power Service Corp as designated agent for AEP Operating Companies submits an Amendment to the Interconnection & Local Delivery Service Agreement 1416 with the Village of Arcadia.

Filed Date: 06/18/2007.

Accession Number: 20070620-0108.

Comment Date: 5 p.m. Eastern Time on Monday, July 9, 2007.

Docket Numbers: ER07-779-001.

Applicants: American Electric Power Service Corporation.

Description: The American Electric Power Service Corp as designated agent for AEP Operating Companies submits an Amendment to the Interconnection & Local Delivery Service Agreement 1423 with the Village of Greenwich.

Filed Date: 06/18/2007.

Accession Number: 20070620-0114.

Comment Date: 5 p.m. Eastern Time on Monday, July 9, 2007.

Docket Numbers: ER07-780-001.

Applicants: American Electric Power Service Corporation.

Description: The American Electric Power Service Corp as designated agent for AEP Operating Companies submits an Amendment to the Interconnection & Local Delivery Service Agreement 1417 with the Village of Bloomdale.

Filed Date: 06/18/2007.

Accession Number: 20070620-0116.

Comment Date: 5 p.m. Eastern Time on Monday, July 9, 2007.

Docket Numbers: ER07-781-001.

Applicants: American Electric Power Service Corporation.

Description: The American Electric Power Service Corp agent for AEP Operating Companies submits an Amendment to the Interconnection & Local Delivery Service Agreement 1418 with the City of Bryan.

Filed Date: 06/18/2007.

Accession Number: 20070620-0105.

Comment Date: 5 p.m. Eastern Time on Monday, July 9, 2007.

Docket Numbers: ER07-785-001.

Applicants: American Electric Power Service Corporation.

Description: The American Electric Power Service Corp as designated agent for AEP Operating Companies submits an Amendment to the Interconnection & Local Delivery Service Agreement 1424 with the Village of Plymouth.

Filed Date: 06/18/2007.

Accession Number: 20070620-0111.

Comment Date: 5 p.m. Eastern Time on Monday, July 9, 2007.

Docket Numbers: ER07-786-001.

Applicants: American Electric Power Service Corporation.

Description: The American Electric Power Service Corp as designated agent for AEP Operating Companies submits an Amendment to the Interconnection & Local Delivery Service Agreement 1427 with the City of St Clairsville.

Filed Date: 06/18/2007.

Accession Number: 20070620-0110.

Comment Date: 5 p.m. Eastern Time on Monday, July 9, 2007.

Docket Numbers: ER07-787-001.

Applicants: American Electric Power Service Corporation.

Description: The American Electric Power Service Corp as designated agent for AEP Operating Companies submits an Amendment to the Interconnection & Local Delivery Service Agreement 1424 with the Village of Ohio City.

Filed Date: 06/18/2007.

Accession Number: 20070620-0106.

Comment Date: 5 p.m. Eastern Time on Monday, July 9, 2007.

Docket Numbers: ER07-789-001.

Applicants: American Electric Power Service Corporation.

Description: The American Electric Power Service Corp as designated agent for AEP Operating Companies submits an Amendment to the Interconnection & Local Delivery Service Agreement 1429 with the Village of Sycamore.

Filed Date: 06/18/2007.

Accession Number: 20070620-0112.

Comment Date: 5 p.m. Eastern Time on Monday, July 9, 2007.

Docket Numbers: ER07-790-001.

Applicants: American Electric Power Service Corporation.

Description: The American Electric Power Service Corp as designated agent for AEP Operating Companies submits an Amendment to the Interconnection & Local Delivery Service Agreement 1428 with the Village of Shiloh.

Filed Date: 06/18/2007.

Accession Number: 20070620-0117.

Comment Date: 5 p.m. Eastern Time on Monday, July 9, 2007.

Docket Numbers: ER07-791-001.

Applicants: American Electric Power Service Corporation.

Description: The American Electric Power Service Corp as designated agent for AEP Operating Companies submits an Amendment to the Interconnection & Local Delivery Service Agreement 1430 with the City of Wapakoneta.

Filed Date: 06/18/2007.

Accession Number: 20070620-0115.

Comment Date: 5 p.m. Eastern Time on Monday, July 9, 2007.

Docket Numbers: ER07-797-001.

Applicants: American Electric Power Service Corporation.

Description: The American Electric Power Service Corp as designated agent for AEP Operating Companies submits an Amendment to the Interconnection & Local Delivery Service Agreement 1431 with the Village of Wharton.

Filed Date: 06/18/2007.

Accession Number: 20070620-0109.

Comment Date: 5 p.m. Eastern Time on Monday, July 9, 2007.

Docket Numbers: ER07-798-001.

Applicants: American Electric Power Service Corporation.

Description: The American Electric Power Service Corp as designated agent for AEP Operating Companies submits an Amendment to the Interconnection & Local Delivery Service Agreement 1420 with the City of Clyde.

Filed Date: 06/18/2007.

Accession Number: 20070620-0113.

Comment Date: 5 p.m. Eastern Time on Monday, July 9, 2007.

Docket Numbers: ER07-800-001.

Applicants: American Electric Power Service Corporation.

Description: The American Electric Power Service Corp as designated agent for AEP Operating Companies submits an Amendment to the Interconnection & Local Delivery Service Agreement 1419 w/ the Village of Carey.

Filed Date: 06/18/2007.

Accession Number: 20070620-0121.

Comment Date: 5 p.m. Eastern Time on Monday, July 9, 2007.

Docket Numbers: ER07-878-001.

Applicants: Atlantic City Electric Company.

Description: Atlantic City Electric Co submits an executed Interconnection Agreement with the City of Vineland, New Jersey.

Filed Date: 06/18/2007.

Accession Number: 20070620-0120.

Comment Date: 5 p.m. Eastern Time on Monday, July 9, 2007.

Docket Numbers: ER07-912-001.

Applicants: Potomac Electric Power Company.

Description: Answer of PEPCO to Motion for Partial Summary Disposition, Protest, and Expression of Support.

Filed Date: 06/20/2007.

Accession Number: 20070620-5049.

Comment Date: 5 p.m. Eastern Time on Wednesday, July 11, 2007.

Docket Numbers: ER07-914-001.

Applicants: Delmarva Power & Light Company.

Description: Motion for Leave to Answer and Answer of Delmarva Power and Light Company.

Filed Date: 06/20/2007.

Accession Number: 20070620-5050.

Comment Date: 5 p.m. Eastern Time on Wednesday, July 11, 2007.

Docket Numbers: ER07-974-001.

Applicants: Wisconsin Electric Power Company.

Description: Errata to WDSA between Wisconsin Electric Power Company and City of Norway, Michigan.

Filed Date: 06/12/2007.

Accession Number: 20070612-5048.

Comment Date: 5 p.m. Eastern Time on Tuesday, July 03, 2007.

Docket Numbers: ER07-1047-000.

Applicants: New York State Electric and Gas Corporation.

Description: New York State Electric & Gas Corp submits this supplement to FERC Rate Schedule 200—Facilities Agreement w/ the New York Power Authority pursuant to section 205 of the Federal Power Act etc.

Filed Date: 06/18/2007.

Accession Number: 20070620-0118.

Comment Date: 5 p.m. Eastern Time on Monday, July 9, 2007.

Docket Numbers: ER07-1048-000.

Applicants: Southern California Edison Company.

Description: Southern California Edison Company submits its revised rate sheets to Grand Crossing E Street Wholesale Distribution Load Interconnection Facility Agreement etc.

Filed Date: 06/19/2007.

Accession Number: 20070620-0127.

Comment Date: 5 p.m. Eastern Time on Tuesday, July 10, 2007.

Take notice that the Commission received the following electric securities filings

Docket Numbers: ES07-41-000.

Applicants: Duquesne Light Company.

Description: Request for Permission to Issue short term debt of Duquesne Light Company under ES07-41.

Filed Date: 06/20/2007.

Accession Number: 20070620-5054.

Comment Date: 5 p.m. Eastern Time on Wednesday, July 11, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E7-12467 Filed 6-27-07; 8:45 am]

BILLING CODE 6717-01-P